ENVIRONMENTAL PROTECTION AGENCY

[FRL-7264-2]

Assistance for Local Governments That Wish To Develop and Implement Environmental Management Systems (EMS)

AGENCY: Environmental Protection Agency.

ACTION: Notice; announcement of a program to assist local agencies that wish to voluntarily develop and implement environmental management systems (EMS); request for applications.

SUMMARY: The Environmental Protection Agency (EPA) announces its intention to assist up to ten local government organizations that wish to develop and implement environmental management systems (EMS). While no direct financial assistance would be provided to participants. Other assistance, in the form of training workshops, on-site visits, and electronic materials/consultation would be provided. EPA would provide partial funding for this program through a cooperative agreement with the Global Environment and Technology Foundation (GETF), a non-profit organization that specializes in EMS training and implementation, located in Annandale, Virginia, but the majority of the funding would be provided by the participants through individual agreements with GETF. GETF will then work closely with each participant throughout the life of the program and provide training, technical assistance, site visits, and other materials designed to help each participant develop a complete EMS, using the ISO 14001 International EMS Standard as a baseline. Participants would also be asked to communicate and share information with local stakeholders as their EMS is developed. Each participant would also provide data about their EMSs, including a short case study, to a National Clearinghouse of EMS Information that is designed to help a wide range of public agencies develop EMSs for their operations. This clearinghouse is located at www.peercenter.net.

This initiative is similar to and builds on the successes of two previous projects sponsored by EPA. More information on these projects can also be found at www.peercenter.net. The initiative is also consistent with EPA's overall policy position of encouraging EMS adoption in key sectors. This statement was recently signed by the EPA Administrator and can be found at www.epa.gov/ems.

This initiative is being led by EPA's Office of Water and co-sponsored by the Office of Air and Radiation and the Office of Solid Waste.

DATES: Letters of Application from interested organizations should be submitted no later than September 30, 2002.

ADDRESSES: Letters of application should be submitted in writing or faxed to: Craig Ruberti, Global Environment and Technology Foundation (GETF), 7010 Little River Turnpike, Suite 460, Annandale, Virginia, 22003, (703) 750-640, FAX (703) 750-6506.

FOR FURTHER INFORMATION CONTACT: Jim Horne, U.S. EPA, Office of Wastewater Management, 1200 Pennsylvania Avenue, NW., 20460, (202) 564-0571, horne.james@epa.gov.

SUPPLEMENTARY INFORMATION:

I. Background

Over the past 8-10 years, there has been increasing evidence that organizations that adopt environmental management systems (EMS) for their operations can realize significant benefits in terms of improved environmental performance, including but not limited to environmental compliance, prevention of pollution, increased operational efficiency, and improved relations with regulatory agencies. Originally adopted in the private sector, EMSs are now proving to be a powerful tool that can also help public agencies, especially local governments. EMSs do not impose new technical requirements, nor do they act as a substitute for existing regulatory requirements. EMSs provide a powerful and replicable method for an organization to more effectively manage its environmental obligations and, as a result, improve its overall environmental performance, including areas not subject to legal requirements. EMSs can also help organizations reduce unnecessary costs.

Since 1997, the U.S. Environmental Protection Agency (EPA) has led a major effort to assist and build partnerships with public agencies, primarily local governments, voluntarily adopt environmental management systems (EMS) for their operations, using the ISO 14001 International EMS Standard as a baseline. These initiatives have documented a series of important benefits for the 23 organizations that have participated including improved environmental performance, cost savings, and better community relations. The experiences of these agencies have also helped to demonstrate the value of EMSs in the public sector, provided much valuable information that can help other public agencies in the future, and pointed out the need for EPA to continue to build strong partnerships with local governments that wish to adopt EMSs. Organizations interested in applying for the program described below are encouraged to learn more about the benefits that previous participants have realized through their EMSs by going to www.peercenter.net.

As a result of the successes of these efforts, EPA has recently launched the Public Entity EMS Resource Center Initiative (PEER). The PEER Initiative consists of two major components—(1) A national clearinghouse of EMS information geared to the particular needs of public agencies, especially local governments, located at www.peercenter.net and (2) a group of eight EMS Local Resource Centers (LRCs) around the country, housed in academic and other non-profit institutions, that can provide EMS assistance and training for public agencies in different areas around the country. A listing of these Local Resource Centers can be found at the Web site listed above. The national program described in this notice will compliment the work of the Local Resource Centers, help provide additional valuable for the information in the national clearinghouse described above, and maintain momentum for EMS adoption in the public sector.

II. Program Description

Participants in this program would be required to:

(1) Develop an environmental management system (EMS) for an operation of their choosing, using the ISO 14001 International Standard as a baseline. Participants will be provided with information on the process, costs, and benefits of achieving 3rd party certification for their EMS, but will not be required to achieve certification;

(2) Communicate and share information with local stakeholders as the EMS is developed;

(3) Adopt performance objectives for the EMS that address compliance, environmental performance beyond compliance, and pollution prevention;

(4) Share information about their EMS and other relevant information through the national clearinghouse of EMS information for public entities described above (www.peercenter.net).

The Global Environment and Technology Foundation (GETF) , through a cooperative agreement with U.S. EPA, will work closely with each participant to help them meet these requirements, over a two year period beginning in late 2002. GETF will provide this assistance through regular workshops involving all participants, site assistance visits for each participants, regular conference calls, and other written and electronic materials. In addition, participants will receive informal mentoring, as appropriate, from agencies that have participated in the two previous local government EMS initiatives sponsored by U.S. EPA.

III. Guidelines for Application

Organizations wishing to apply for this program need to:

1. Submit a letter of application to the person listed above in the summary of this Notice no later than September 30, 2002;

2. This letter should be signed by the head of the organization and contain the following information:

—A brief description of the organization and its responsibilities;

—The name of a top management representative who will have the responsibility and authority for ensuring that the EMS is developed based on the program description provided above. This person should be available to travel and participate in up to four workshops with other participants over the life of the project. These workshops will be held approximately every six months;

—A preliminary, non-binding indication of the particular operation for which the EMS will be developed (i.e. wastewater treatment plant, public works department, transit operation, etc.). If necessary, a final determination of the operation for which the EMS will be developed can take place once organizations have been selected for the program;

—A description of the reasons the organization wishes to participate in the program and some of the benefits it hopes to realize from adopting an EMS;

—Finally, a clear assurance that top management in the organization will provide the necessary visibility, staff time, and other resources necessary to successfully develop and implement the EMS through an EMS implementation team. Ongoing top management support is the most critical factor for ensuring a successful and sustainable EMS.

EPA funding will be provided through GETF and used to offset some of the costs of participating in the program, such as travel to workshops. However, participants will be asked to pay the majority of the costs of participation, through an agreement with GETF. This funding can be provided on a yearly basis. EPA believes the costs of participation are competitive with costs incurred by other local governments to develop EMSs and that participation in this national program will provide significant benefits to each participant.

Once all applications are received, follow up interviews will be conducted by GETF with each applicant to discuss the information contained in their letter of application in more detail, along with any other information needed before final decisions on program participation are made. GETF will consult with EPA before final decisions are made. These final decisions are expected no later than November 20, 2002, after which GETF will work with each participant to schedule the first program workshop.

James A. Hanlon,
Director, Office of Wastewater Management.

[FR Doc. 02-21291 Filed 8-20-02; 8:45 am]

BILLING CODE 6560-50-P